DEPARTMENT OF HEALTH AND HUMAN SERVICES

Administration for Children and Families

Submission for OMB Review; Comment Request

Title: National Extranet Optimized Runaway and Homeless Youth Management Information System (NEORHYMIS)

OMB No.: 0970-0123.

Description: The Runaway and Homeless Youth Act (RHYA), as amended by Public Law 106-71 (42 U.S.C. 5701 et seq.), mandates that the Department of Health and Human Services (HHS) report regularly to Congress on the status of HHS-funded programs serving runaway and homeless youth. Organizations funded under the Runaway and Homeless Youth (RHY) program are required by section 312(b)(7) of the statute to meet several data collection and reporting requirements. These requirements include maintenance of client statistical records and submission of annual program reports profiling the characteristics of the youth and families served and the services provided to them. The October 2003 reauthorization of the Act maintained the requirements as described in the standing legislation.

Data from the National Extranet Optimized Runaway and Homeless Youth Management Information System (NEORHYMIS) support grantee organizations as they carry out a variety of integrated, ongoing responsibilities and projects. These include meeting statutory and regulatory reporting requirements, maintaining program service and management information for internal uses, tracking youth in their programs, accountability monitoring, management improvement, research, and evaluation.

Respondents: Recipients of grants from the HHS/ACF/Family and Youth Services Bureau to operate emergency shelters for runaway youth, transitional programs for homeless youth, and street outreach programs.

Annual Burden Estimates
Instrument | Number of respondents | Number of responses per respondent | Average burden hours per response | Total burden hours
Youth Profile | 535 | 153 | 0.25 | 20,464
Street Outreach Report | 147 | 4211 | 0.02 | 12,380
Brief Contacts | 535 | 305 | 0.15 | 24,476
Turnaways | 535 | 13 | 0.1 | 696
Data Transfer | 535 | 2 | 0.5 | 535

Estimated Total Annual Burden Hours:

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: katherine_ t._astrich@omb.eop.gov.

Dated: May 19, 2004.
Robert Sargis,
Reports Clearance Officer.

[FR Doc. 04-11815 Filed 5-24-04; 8:45 am]

BILLING CODE 4184-01-M